DEPARTMENT OF TRANSPORTATION

National Highway Traffic Safety Administration

49 CFR Part 571

[Docket No. NHTSA-2015-0045]

RIN 2127-AL01

Federal Motor Vehicle Safety Standards No. 218; Motorcycle Helmets; Withdrawal

AGENCY: National Highway Traffic Safety Administration (NHTSA), U.S. Department of Transportation (DOT).

ACTION: Notice of proposed rulemaking; withdrawal.

SUMMARY: This action withdraws the notice of proposed rulemaking (NPRM) published in the Federal Register on May 21, 2015 proposing amendments to Federal Motor Vehicle Safety Standard (FMVSS) No. 218, “Motorcycle Helmets.” The NPRM proposed three main changes to FMVSS No. 218: adding a definition of motorcycle helmet, adding preliminary screening requirements, and adding an alternate compliance process. Based on NHTSA's analysis of the comments received and other considerations, the Agency has decided to withdraw the rulemaking proposal.

DATES: The NPRM published in the Federal Register on May 21, 2015, at 80 FR 29458, is withdrawn as of May 30, 2025.

ADDRESSES: National Highway Traffic Safety Administration, U.S. Department of Transportation, 1200 New Jersey Avenue SE, West Building, Washington, DC 20590.

FOR FURTHER INFORMATION CONTACT: For technical issues, you may contact James Myers at james.myers@dot.gov. For legal issues, you may contact John Piazza at John.Piazza@dot.gov. You can reach these officials by phone at 202-366-1810.

SUPPLEMENTARY INFORMATION:

I. Summary of the Notice of Proposed Rulemaking

II. Comments Received

III. Decision To Withdraw Rulemaking

I. Summary of the Notice of Proposed Rulemaking

On May 21, 2015, NHTSA published an NPRM ¹ proposing three changes to FMVSS No. 218: adding a definition of motorcycle helmet, adding preliminary screening requirements and adding an alternate compliance process.

¹ 80 FR 29458.

The proposed definition of “motorcycle helmet” stated that “hard shell headgear” meeting any of four conditions would be considered motorcycle helmets. First, a helmet would be a motorcycle helmet if it is manufactured or offered for sale with the apparent purpose of safeguarding highway users against risk of accident, injury, or death. Second, a helmet would be a motorcycle helmet if it is manufactured or sold by entities also dealing in certified helmets or other motor vehicle equipment and apparel for motorcycles or motorcyclists. Third, a motorcycle helmet described or depicted as a motorcycle helmet in packaging, promotional information or advertising would be a motorcycle helmet. The fourth criterion proposed that helmets presented for importation as motorcycle helmets in the Harmonized Tariff Schedule are also motorcycle helmets. To foreclose the possibility that hard shell headgear not intended for on-road use would be captured under the foregoing conditions, NHTSA proposed that the new definition exempt helmets meeting recognized safety standards for off-highway uses from the class of helmets deemed to be motorcycle helmets.

The NPRM also proposed changes to the criteria helmets must meet to comply with FMVSS No. 218 by proposing a set of threshold requirements to distinguish helmets that qualify for further testing to the existing performance requirements of the Standard from helmets whose physical characteristics are such that they cannot meet those performance requirements using known technologies. These threshold requirements, described as preliminary screening requirements, proposed liner thickness and compression requirements that all motorcycle helmets must meet and would allow either field or courtroom examinations using simple tools to establish if a helmet could meet the performance requirements of FMVSS No. 218.

II. Comments Received

NHTSA received 343 comments in response to the NPRM. Comments from individuals represented the overwhelming number of comments. Almost all the individual comments opposed the proposals in the NPRM. These comments, in general, did not reflect consideration of the actual proposals in the NPRM. They largely voiced opposition to State helmet laws, opposed government regulation in general, and expressed concerns that helmet laws or regulations are pretext for harassment of motorcyclists. A motorcycle industry trade group, a helmet manufacturer, various safety organizations, a law enforcement organization, a test facility, and motorcyclist advocacy groups also submitted comments. Except for the motorcyclist advocacy groups, the foregoing entities supported the proposals in the NPRM with some raising either technical or practical concerns about different aspects of the proposals.

The safety organizations and law enforcement organization were supportive of the proposed definition. A motorcycle industry trade group stated support of the proposed definition noting that “the proposed definition makes a critical distinction to close the novelty helmet loophole.” However, one safety organization commented that the amendments would not reduce the sale or use of novelty helmets or help law enforcement, but provided no support for their opinion.

Many commenters, including a helmet manufacturer, were concerned that a proposed energy-absorbing liner thickness standard in the screening requirements would hinder innovation. On the other hand, others acknowledged that thinner liners did not appear to be technically feasible. Some commenters were concerned that compliant helmets would be rendered noncompliant under the new thickness requirements and some indicated that helmet thickness does not correlate to helmet safety.

Several commenters expressed concerns that the tools proposed for the preliminary screening test would be unduly prescriptive and impractical. Other commenters had specific questions about how and where certain measurements would be taken. Finally, one law enforcement organization commented that the proposed screening criteria/tools may hinder enforcement and place police officers at risk.

III. Decision To Withdraw Rulemaking

Based on the comments NHTSA received regarding some of the tools specified in the proposal to evaluate the preliminary screening requirements and the feasibility of the screening criteria, NHTSA has decided to withdraw this rulemaking. NHTSA plans to conduct other activities to identify options and approaches for reducing the use of novelty helmets by highway users, including training law enforcement officers for identifying novelty helmets and recently updating NHTSA's website with information for the public regarding the safety benefits of certified motorcycle helmets over novelty helmets. NHTSA will also continue to monitor the marketplace to determine if new or innovative technologies are introduced that enable thinner impact attenuating liners to meet the proposed criteria. It may be necessary to perform additional market research on helmet thickness. Furthermore, NHTSA will continue to monitor the safety issues raised by novelty helmet use and consider development of new test methods and tools to meet the NHTSA's objectives. Accordingly, NHTSA withdraws the proposed amendment of the safety standard for motorcycle helmets because a rulemaking action is not anticipated in the near future.

The NPRM contained in docket number NHTSA-2015-0045, as published in the Federal Register on May 21, 2015, at 80 FR 29458, is hereby withdrawn.

Issued under authority delegated in 49 CFR 1.95 and 501.4 and 501.5.
Peter Simshauser,
Chief Counsel.

[FR Doc. 2025-09712 Filed 5-27-25; 4:15 pm]

BILLING CODE 4910-59-P